FEDERAL COMMUNICATIONS COMMISSION

47 CFR Part 25

[WT Docket No.23-65, IB Docket No. 22-271; Report No. 3214; FR ID 226250]

Petition for Reconsideration of Action in Rulemaking Proceeding

AGENCY: Federal Communications Commission.

SUMMARY: Petition for Reconsideration (Petition) has been filed in the Commission's proceeding by David Goldman on behalf of Space Exploration Holdings, LLC.

DATES: Oppositions to the Petition must be filed on or before July 5, 2024. Replies to oppositions to the Petition must be filed on or before July 15, 2024.

ADDRESSES: Federal Communications Commission, 45 L Street NE, Washington, DC 20554.

FOR FURTHER INFORMATION CONTACT: For additional information on this proceeding, contact Melissa Conway of the Mobility Division, Wireless Telecommunications Bureau, at Melissa.Conway@fcc.gov or (202) 418-2887, or Stephanie Neville of the Space Bureau Satellite Programs and Policy Division, at Stephanie.Neville@fcc.gov or (202) 418-1671.

SUPPLEMENTARY INFORMATION: This is a summary of the Commission's document, Report No. 3214, released June 14, 2024. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Single Network Future: Supplemental Coverage from Space; Space Innovation (GN Docket No. 23-65, IB Docket No. 22-271).

Number of Petitions Filed: 1.

Federal Communications Commission.
Marlene Dortch,
Secretary, Office of the Secretary.

[FR Doc. 2024-13407 Filed 6-18-24; 8:45 am]

BILLING CODE 6712-01-P